DEPARTMENT OF HEALTH AND HUMAN SERVICES

Office of the Secretary

Office of the Assistant Secretary for Administration; Statement of Organization, Functions, and Delegations of Authority

AGENCY: Office of the Secretary, HHS.

ACTION: Notice.

SUMMARY: The Department of Health and Human Services (HHS) is reorganizing the Office of the Assistant Secretary for Administration (ASA) located within the Office of the Secretary (OS). The reorganization is designed to increase the efficiency and effectiveness of the office by consolidating the administrative functions under ASA. The Office of the Secretary Executive Office will also be dissolved, and the administrative functions will be consolidated with similar functions already performed by existing offices within OS.

FOR FURTHER INFORMATION CONTACT: Lila Lee, Office of Business Management and Transformation, 200 Independence Ave., SW., Washington, DC 20201, (202) 690-6075.

1. Part A, Office of the Secretary, Statement of Organization, Functions, and Delegations of Authority for the Department of Health and Human Services (HHS) is being amended at Chapter AJ, Office of the Assistant Secretary for Administration (ASA), which was last amended at 74 FR 57679-82, dated November 9, 2009, at 74 FR 297-301, dated January 5, 2009, at 72 FR 40155-57, dated July 23, 2007, and at 72 FR 2282-83, dated January 18, 2007, as follows:

A. Under “Section AJ.10 Organization,” delete in its entirety and replace with the following:

Section AJ.10 Organization. The Office of the Assistant Secretary for Administration (ASA) is under the direction of the Assistant Secretary for Administration, who reports to the Secretary, and consists of the following components:

• Immediate Office (AJ).

• Office of Human Resources (AJA).

• Office for Facilities Management and Policy (AJE).

• Office of the Chief Information Officer (AJG).

• Office of Diversity Management and Equal Employment Opportunity (AJI).

• Office of Business Management and Transformation (AJJ).

• Program Support Center (P).

B. Under Section AJ.20 Functions, insert the following:

Office of Human Resources (AJA). The Office of Human Resources (OHR) provides leadership in the planning and development of personnel policies and human resource programs that support and enhance the Department's mission. OHR also provides technical assistance to the Operating Divisions (OPDIVs) to most effectively and efficiently accomplish the OPDIV's mission through improved planning and recruitment of human resources and serves as the Departmental liaison to central management agencies on related matters.

Office for Facilities Management and Policy (AJE). The Office for Facilities Management and Policy (OFMP) provides Department-wide leadership and direction in master planning, facilities planning, design and construction, leasing, capital program budget management, space utilization, sustainable buildings, operations and maintenance, environmental and energy management, historic preservation, and occupational health and safety. OFMP is responsible for the HHS Real Property Asset Management program; and in this role provides management oversight across the HHS portfolio of real property assets to ensure appropriate stewardship and accountability is maintained. In addition, OFMP is responsible for the operation of and physical security for the HHS headquarters facility, the Hubert H. Humphrey Building, and oversight of HHS-occupied space in the Southwest Complex of Washington, DC. OFMP also provides technical assistance to HHS' OPDIVs in evaluating the effectiveness of their facilities programs and policies and fosters creativity and innovation in the administration of these functions.

Office of the Chief Information Officer (AJG). The Office of the Chief Information Officer (OCIO) advises the Secretary and the ASA on matters pertaining to the use of information and related technologies to accomplish Departmental goals and program objectives. The mission of the Office is to establish and provide: assistance and guidance on the use of technology-supported business process reengineering; investment analysis; performance measurement; strategic development and application of information systems and infrastructure; policies to provide improved management of information resources and technology; and better, more efficient service to OCIO's clients and employees.

Office of Diversity Management and Equal Employment Opportunity (AJI). The Office of Diversity Management and Equal Employment Opportunity (ODME) provides leadership in creating and sustaining a diverse workforce and an environment free of discrimination at HHS. ODME works pro actively to enhance the employment of women, minorities, veterans, and people with disabilities through efforts that include policy development, oversight, complaint prevention, investigations and processing, outreach, commemorative events, and standardized education and training programs. ODME also provides resource management and equal opportunity services functions for the Department. To accomplish its mission, ODME provides functional oversight and works in collaboration with the Equal Employment Opportunity offices that service each of the Department's OPDIVs. ODME also conducts Department-wide program analysis to determine barriers to diversity and inclusion.

Office of Business Management and Transformation (AJJ). The Office of Business Management and Transformation (OBMT) provides results-oriented strategic and analytical support for key management initiatives and coordinates the business mechanisms necessary to account for the performance of these initiatives and other objectives as deemed appropriate. OBMT manages the budget and financial resources for the direct support of the ASA. OBMT oversees Department-wide multi-sector workforce management activities. OBMT also provides business process reengineering services, including the coordination of the review and approval process for reorganization and delegation of authority proposals that require the Secretary's or designees' signature.

2. Part P, Program Support Center (PSC), Statement of Organization, Functions, and Delegations of Authority, for the Department of Health and Human Services (HHS), which was last amended at 74 FR 297-301, dated January 5, 2009, at 62 FR 63952-03, dated December 3, 1997, and at 62 FR 5010-01, dated February 3, 1997, is amended as follows:

A. Delete Part P, “Program Support Center (P),” in its entirety and replace with the following:

Part P: Program Support Center

Program Support Center (P). The Program Support Center (PSC) provides a full range of support services to HHS and other Federal Agencies, allowing them to focus on their core missions that serve the American public. To accomplish its mission, PSC consolidates functions and concentrates skills and expertise on its customers' business needs. The PSC drives cost savings and continuous quality improvement through economies of scale, cost negotiations, standardized business processes, and consistent quality controls.

3. Part A, Office of the Secretary, Statement of Organization, Functions and Delegations of Authority for the Department of Health and Human Services (HHS) is being amended as Chapter AM, The Office of the Assistant Secretary for Financial Resources, as last amended 74 FR 39325-27, dated August 6, 2009, and at 71 FR 38884-88, dated July 10, 2006, is amended as follows:

A. Under Chapter AML, “Office of Budget,” “Division of the Office of the Secretary Budget (AML5),” insert the following:

r. Manages the budget and financial resources for the Office of the Secretary.

B. Under Chapter AMS, “Office of Finance,” “Section AMS.20 Functions,” “Office of Financial Policy and Reporting (AMS1),” “Division of Financial Management Policy (AMS11),” delete part “(1)” in its entirety and replace with the following:

(1) Ensures that proper internal controls for HHS, including the Office of the Secretary (OS), are implemented and maintained under OMB Circular A-123, Management's Responsibility for Internal Control;

4. Delegation of Authority. Pending further redelegation, directives or orders made by the Secretary or ASA, all delegations and redelegations of authority made to officials and employees of affected organizational components will continue in them or their successors pending further redelegations, provided they are consistent with this reorganization.

E.J. Holland, Jr.,
Assistant Secretary for Administration.

[FR Doc. E9-31193 Filed 1-4-10; 8:45 am]

BILLING CODE 4150-04-P